DEPARTMENT OF TRANSPORTATION

Federal Aviation Administration

14 CFR Part 97

[Docket No. 31204; Amdt. No. 3809]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective July 30, 2018. The compliance date for each SIAP, associated Takeoff Minimums, and ODP is specified in the amendatory provisions.

The incorporation by reference of certain publications listed in the regulations is approved by the Director of the Federal Register as of July 30, 2018.

ADDRESSES: Availability of matters incorporated by reference in the amendment is as follows:

For Examination

1. U.S. Department of Transportation, Docket Ops-M30, 1200 New Jersey Avenue SE, West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866;(2) is not a “significant rule” under DOT Regulatory Policies and Procedures (44 FR 11034; February 26,1979) ; and (3)does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (air).

Issued in Washington, DC, on July 13, 2018.
John S. Duncan,
Executive Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 16 August 2018

Moline, IL, Quad City Intl, Takeoff Minimums and Obstacle DP, Amdt 2

New Iberia, LA, Acadiana Rgnl, RNAV (GPS) RWY 17, Amdt 1A

St Ignace, MI, Mackinac County, RNAV (GPS) RWY 7, Orig-B

Midland, TX, Midland Airpark, Takeoff Minimums and Obstacle DP, Amdt 4

Effective 13 September 2018

Iliamna, AK, Iliamna, NDB RWY 36, Amdt 2A

Iliamna, AK, Iliamna, RNAV (GPS) RWY 8, Amdt 4

Iliamna, AK, Iliamna, RNAV (GPS) RWY 18, Amdt 2

Iliamna, AK, Iliamna, RNAV (GPS) RWY 26, Amdt 2

Iliamna, AK, Iliamna, RNAV (GPS) RWY 36, Amdt 3

Iliamna, AK, Iliamna, Takeoff Minimums and Obstacle DP, Amdt 2A

Nondalton, AK, Nondalton, ILIAMNA TWO, Graphic DP

Nondalton, AK, Nondalton, RNAV (GPS) RWY 2, Amdt 1

Sand Point, AK, Sand Point, BORLAND TWO, Graphic DP

Sand Point, AK, Sand Point, NDB RWY 14, Amdt 2

Sand Point, AK, Sand Point, NDB RWY 32, Amdt 1

Sand Point, AK, Sand Point, RNAV (GPS) RWY 14, Amdt 1

Sand Point, AK, Sand Point, RNAV (GPS) RWY 32, Orig

Sand Point, AK, Sand Point, Takeoff Minimums and Obstacle DP, Amdt 4A

St George, AK, St George, ILS OR LOC RWY 11, Amdt 1

St George, AK, St George, LOC/DME-C, Orig-A, CANCELED

St George, AK, St George, RNAV (GPS) RWY 11, Orig

St George, AK, St George, RNAV (GPS)-B, Orig-A, CANCELED

St George, AK, St George, RNAV (GPS)-D, Amdt 1

Long Beach, CA, Long Beach/Daugherty Field/, RNAV (GPS) Z RWY 30, Amdt 3A

Sacramento, CA, Sacramento Mather, ILS OR LOC RWY 22L, Amdt 6

Sacramento, CA, Sacramento Mather, RNAV (GPS) RWY 4R, Amdt 1C

Sacramento, CA, Sacramento Mather, RNAV (GPS) RWY 22L, Amdt 3

Denver, CO, Front Range, ILS OR LOC RWY 17, Amdt 1B

Denver, CO, Front Range, ILS OR LOC RWY 26, Amdt 6

Denver, CO, Front Range, ILS OR LOC RWY 35, Amdt 2

Denver, CO, Front Range, NDB RWY 26, Amdt 5A, CANCELED

Denver, CO, Front Range, RNAV (GPS) RWY 17, Amdt 1B

Denver, CO, Front Range, RNAV (GPS) RWY 26, Amdt 2

Denver, CO, Front Range, RNAV (GPS) RWY 35, Amdt 2

Dunnellon, FL, Marion County, Takeoff Minimums and Obstacle DP, Amdt 1A

Charles City, IA, Northeast Iowa Rgnl, LOC RWY 12, Amdt 1A

Chicago/Aurora, IL, Aurora Muni, ILS OR LOC RWY 9, Amdt 4

Chicago/Aurora, IL, Aurora Muni, LOC RWY 33, Amdt 1

Chicago/Aurora, IL, Aurora Muni, RNAV (GPS) RWY 9, Amdt 2

Chicago/Aurora, IL, Aurora Muni, RNAV (GPS) RWY 15, Amdt 1

Chicago/Aurora, IL, Aurora Muni, RNAV (GPS) RWY 33, Amdt 1A

Chicago, IL, Chicago Midway Intl, ILS OR LOC RWY 13C, Amdt 1

Chicago, IL, Chicago Midway Intl, RNAV (GPS) RWY4L, Amdt 1

Chicago, IL, Chicago Midway Intl, RNAV (GPS) RWY 22R, Amdt 1

Chicago, IL, Chicago Midway Intl, RNAV (GPS) RWY 31R, Amdt 1

Chicago, IL, Chicago Midway Intl, RNAV (GPS) Z RWY 13C, Amdt 1

Lewisport, KY, Hancock Co-Ron Lewis Field, Takeoff Minimums and Obstacle DP, Orig-A Picayune, MS, Picayune Muni, RNAV (GPS) Y RWY 18, Orig-A

Mansfield, OH, Mansfield Lahm Rgnl, NDB RWY 32, Amdt 11E

Mansfield, OH, Mansfield Lahm Rgnl, RNAV (GPS) RWY 5, Amdt 1A

Mansfield, OH, Mansfield Lahm Rgnl, RNAV (GPS) RWY 23, Amdt 1A

Fairview, OK, Fairview Muni, RNAV (GPS) RWY 17, Amdt 1

Gallatin, TN, Sumner County Rgnl, VOR-A, Amdt 3

Millington, TN, Millington-Memphis, ILS OR LOC RWY 22, Amdt 5

Millington, TN, Millington-Memphis, RNAV (GPS) RWY 4, Amdt 1B

Millington, TN, Millington-Memphis, RNAV (GPS) RWY 22, Amdt 2

Millington, TN, Millington-Memphis, Takeoff Minimums and Obstacle DP, Orig-B

Millington, TN, Millington-Memphis, VOR OR TACAN RWY 22, Amdt 3

Rogersville, TN, Hawkins County, NDB RWY 7, Amdt 3

Rogersville, TN, Hawkins County, Takeoff Minimums and Obstacle DP, Amdt 3

Killeen, TX, Skylark Field, LOC RWY 1, Orig-A

Yakima, WA, Yakima Air Terminal/McAllister Field, RNAV (GPS) W RWY 27, Amdt 1B, CANCELED

Yakima, WA, Yakima Air Terminal/McAllister Field, RNAV (GPS) X RWY 27, Amdt 1E

Milwaukee, WI, General Mitchell Intl, ILS OR LOC RWY 1L, ILS RWY 1L (CAT II), ILS RWY 1L (CAT III), Amdt 10

Milwaukee, WI, General Mitchell Intl, ILS OR LOC 7R, Amdt 16C

Milwaukee, WI, General Mitchell Intl, ILS OR LOC RWY 19R, Amdt 13

Milwaukee, WI, General Mitchell Intl, LOC RWY 25L, Amdt 6

Milwaukee, WI, General Mitchell Intl, RNAV (GPS) RWY 1L, Amdt 2

Milwaukee, WI, General Mitchell Intl, RNAV (GPS) RWY 1R, Amdt 1

Milwaukee, WI, General Mitchell Intl, RNAV (GPS) RWY 7L, Amdt 1

Milwaukee, WI, General Mitchell Intl, RNAV (GPS) RWY 13, Amdt 1

Milwaukee, WI, General Mitchell Intl, RNAV (GPS) RWY 19L, Amdt 1

Milwaukee, WI, General Mitchell Intl, RNAV (GPS) RWY 25R, Amdt 1

Milwaukee, WI, General Mitchell Intl, RNAV (GPS) RWY 31, Amdt 1

Milwaukee, WI, General Mitchell Intl, RNAV (RNP) Y RWY 7R, Orig-B

Milwaukee, WI, General Mitchell Intl, RNAV (RNP) Y RWY 25L, Orig-B

Morgantown, WV, Morgantown Muni-Walter L Bill Hart Fld, VOR-A, Amdt 13, CANCELED

[FR Doc. 2018-16140 Filed 7-27-18; 8:45 am]

BILLING CODE 4910-13-P